DEPARTMENT OF COMMERCE

Foreign-Trade Zones Board

[Order No. 1348]

Expansion of Foreign-Trade Zone 36, Galveston, TX Area

Pursuant to its authority under the Foreign-Trade Zones Act of June 18, 1934, as amended (19 U.S.C. 81a-81u), the Foreign-Trade Zones Board (the Board) adopts the following Order:

Whereas, the Board of Trustees of the Galveston Wharves, grantee of Foreign-Trade Zone 36, submitted an application to the Board to expand and reorganize FTZ 36 to add four parcels (112 acres) to Site 1; to remove a parcel from Site 1 (formerly Parcel 1, 2.67 acres); to add 45 acres to Site 1, Parcel 2; to add a parcel (96 acres) to Site 2; and, to add a new site (Site 3: 74 acres, 2 parcels) at Scholes International Airport, adjacent to the Houston-Galveston Customs port of entry (FTZ Docket 2-2004; filed 1/23/04);

Whereas, notice inviting public comment was given in the Federal Register (69 FR 5315, 2/4/04; 69 FR 18530, 4/8/04), and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to reorganize and expand FTZ 36 is approved, subject to the Act and the Board's regulations, including Section 400.28.

Signed at Washington, DC, this 27th day of August 2004.
James J. Jochum,
Assistant Secretary of Commerce for Import Administration, Alternate Chairman, Foreign-Trade Zones Board.

[FR Doc. 04-20154 Filed 9-2-04; 8:45 am]

BILLING CODE 3510-DS-P